DEPARTMENT OF LABOR

Employment and Training Administration

[TA-W-62,243]

Electric Mobility Corporation, Sewell, NJ; Notice of Negative Determination on Reconsideration

On November 26, 2007, the Department issued an Affirmative Determination Regarding Application for Reconsideration for the workers and former workers of the subject firm. The notice was published in the Federal Register on December 3, 2007 (72 FR 67965-67966).

The TAA petition, which was filed on behalf of workers at Electric Mobility Corporation, Sewell, New Jersey, engaged in the production of mobility chairs was denied based on the findings that during the relevant time period, the subject company did not separate or threaten to separate a significant number or proportion of workers, as required by section 222 of the Trade Act of 1974.

In the request for reconsideration, the petitioner states that there were sixteen workers laid off from the subject firm in May, 2007.

In determining whether there were a significant proportion of workers separated or threatened with separations at the subject company during the relevant time period, the Department contacted the subject firm's company official and requested employment figures for the relevant employment data (for one year prior to the date of the petition and any imminent layoffs).

After careful review of the information provided on reconsideration, it was revealed that workers were laid off from the subject firm during the relevant time period. However, overall employment at the subject firm has increased from October 2006 to September 2007.

As employment levels at the subject facility did not decline and there was no threat of separations during the relevant period. Therefore, criterion (a)(2)(A)(I.A.) and (a)(2)(B)(II.A.) have not been met.

Should conditions change in the future, the petitioner is encouraged to file a new petition on behalf of the worker group which will encompass an investigative period that will include these changing conditions.

Conclusion

After reconsideration, I affirm the original notice of negative determination of eligibility to apply for worker adjustment assistance for workers and former workers of Electric Mobility Corporation, Sewell, New Jersey.

Signed at Washington, DC, this 19th day of December, 2007.
Elliott S. Kushner,
Certifying Officer, Division of Trade Adjustment Assistance.

[FR Doc. E8-259 Filed 1-9-08; 8:45 am]

BILLING CODE 4510-FN-P